DEPARTMENT OF COMMERCE

International Trade Administration

Agency Information Collection Activities; Submission to the Office of Management and Budget (OMB) for Review and Approval; Comment Request; Surveys for User Satisfaction, Impact and Needs

AGENCY: International Trade Administration, Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before November 12, 2024.

ADDRESSES: Interested persons are invited to submit written comments to Katelynn Byers, PRA Process Administrator by phone, 202-989-5979, and by email, Katelynn.Byers@trade.gov or PRA@trade.gov. Please reference OMB Control Number 0625-0275 in the subject line of your comments. Do not submit Confidential Business Information or otherwise sensitive or protected information.

FOR FURTHER INFORMATION CONTACT: Requests for additional information or specific questions related to collection activities should be directed to Katelynn Byers, PRA Process Administrator by phone, 202-989-5979, and by email, Katelynn.Byers@trade.gov or PRA@trade.gov.

SUPPLEMENTARY INFORMATION:

I. Abstract

The International Trade Administration provides a multitude of international trade related programs to help U.S. businesses. These programs include information products, services, and trade events. To accomplish its mission effectively, ITA needs ongoing feedback on its programs. This information collection item allows ITA to solicit clients' opinions about the use of ITA products, services, and trade events. To promote optimal use and provide focused and effective improvements to ITA programs, we are requesting approval for this clearance package; including: Use of surveys to collect feedback immediately after ITA assistance is provided to clients; use of annual surveys (i.e., relationship- based surveys) to gauge overall satisfaction, impact and needs for clients with ITA assistance provided over a period time; use of multiple data collection methods (i.e., web-enabled surveys sent via email, telephone interviews, automated telephone surveys, and in-person surveys via mobile devices/laptops/tablets at trade events/shows) to enable clients to conveniently respond to requests for feedback; and a forecast of burden hours. Without this information, ITA is unable to systematically determine the actual and relative levels of performance for its programs and products/services and to provide clear, actionable insights for managerial intervention. This information will be used for program evaluation and improvement, strategic planning, allocation of resources and stakeholder reporting.

II. Method of Collection

The International Trade Administration is seeking approval for the following data collection methods to provide flexibility in conducting customer satisfaction surveys and to reduce the burden on respondents: (1) An email message delivering a hot link to a web enabled survey with an email reminder sent if the client does not respond to the survey; (2) a telephone survey/interview; (3) a web-enabled survey conducted in-person at trade shows/events via a laptop, tablet or mobile phone so participants can immediately respond without having to provide their email address, and (4) intercept and always-on surveys implemented through ITA's web presence.

III. Data

OMB Control Number: 0625-0275.

Form Number(s): N/A.

Type of Review: Regular submission, revision of a current information collection.

Affected Public: Business or other for-profit organizations; Not-for-profit institutions; State, Local, or Tribal government; and Federal government.

Estimated Number of Respondents: 50,000.

Estimated Time per Response: 5-30 minutes.

Estimated Total Annual Burden Hours: 25,000 hours.

Estimated Total Annual Cost to Public: $754,651.33.

Respondent's Obligation: Voluntary.

Legal Authority: Public Law 15 U.S.C. et seq. and 15 U.S.C. 171 et seq.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Clearance Officer, Office of the Under Secretary for Economic Affairs, Commerce Department.

[FR Doc. 2024-20345 Filed 9-9-24; 8:45 am]

BILLING CODE 3510-FP-P